DEPARTMENT OF COMMERCE

International Trade Administration

[A-570-045, C-570-046]

1-Hydroxyethylidene-1,1-Diphosphonic Acid From the People's Republic of China: Continuation of Antidumping Duty Order and Countervailing Duty Order

AGENCY: Enforcement and Compliance, International Trade Administration, Department of Commerce.

SUMMARY: As a result of the determinations by the U.S. Department of Commerce (Commerce) and the U.S. International Trade Commission (ITC) that revocation of the antidumping duty (AD) and countervailing duty (CVD) orders on 1-Hydroxyethylidene-1,1-Diphosphonic Acid (HEDP) from the People's Republic of China (China) would likely lead to continuation or recurrence of dumping, countervailable subsidies, and material injury to an industry in the United States, Commerce is publishing a notice of continuation of the AD and CVD orders.

DATES: Applicable December 1, 2022.

FOR FURTHER INFORMATION CONTACT: Rachel Jennings (AD) or Benito Ballesteros (CVD), AD/CVD Operations, Office V, Enforcement and Compliance, International Trade Administration, U.S. Department of Commerce, 1401 Constitution Avenue NW, Washington, DC 20230; telephone: (202) 482-1110 or (202) 482-7425, respectively.

SUPPLEMENTARY INFORMATION:

Background

On May 18, 2017, Commerce published in the Federal Register the AD and CVD orders on HEDP from China.¹ On April 1, 2022, the ITC instituted, and Commerce initiated, the first sunset review of the Orders, pursuant to section 751(c) of the Tariff Act of 1930, as amended (the Act).² As a result of its review, Commerce determined that revocation of the Orders would likely lead to continuation or recurrence of dumping and countervailable subsidies and, therefore, notified the ITC of the magnitude of the margins and net countervailable subsidy rates likely to prevail should the Orders be revoked.³

¹ See 1-Hydroxyethylidene-1,1-Diphosphonic Acid from the People's Republic of China: Amended Final Determination of Sales at Less Than Fair Value, and Antidumping Duty Order, 82 FR 22807 (May 18, 2017); and 1-Hydroxyethylidene-1,1-Diphosphonic Acid from the People's Republic of China: Countervailing Duty Order, 82 FR 22809 (May 18, 2017) (collectively, Orders).

² See 1-Hydroxyethylidene-1,1-Diphosphonic Acid (HEDP) from China; Institution of Five-Year Reviews, 87 FR 19125 (April 1, 2022); and Initiation of Five-Year (Sunset) Reviews, 87 FR 19069 (April 1, 2022).

³ See 1-Hydroxyethylidene-1,1-Diphosphonic Acid from the People's Republic of China: Final Results of the Expedited First Sunset Review of the Antidumping Duty Order, 87 FR 42705 (July 18, 2022) (AD Sunset Final); and 1-Hydroxyethylidene-1,1-Diphosphonic Acid from the People's Republic of China: Final Results of the Expedited First Sunset Review of the Countervailing Duty Order, 87 FR 42707 (July 18, 2022) (CVD Sunset Final).

On November 25, 2022, the ITC published its determination, pursuant to sections 751(c) and 752(a) of the Act, that revocation of the Orders would likely lead to continuation or recurrence of material injury to an industry in the United States within a reasonably foreseeable time.⁴

⁴ See 1-Hydroxyethylidene-1,1-Diphosphonic Acid (HEDP) from China, 87 FR 72510 (November 25, 2022); see also 1-Hydroxyethylidene-1,1-Diphosphonic Acid (HEDP) from China, Inv. Nos. 701-TA-558 and 731-TA-1316 (Review), USITC Pub. 5386 (November 2022).

Scope of the Orders

The merchandise covered by the Orders includes all grades of aqueous acidic (non-neutralized) concentrations of HEDP, also referred to as hydroxyethylidenendiphosphonic acid, hydroxyethanediphosphonic acid, acetodiphosphonic acid, and etidronic acid. The Chemical Abstract Service (CAS) registry number for HEDP is 2809-21-4.

The merchandise subject to the Orders is currently classified in the Harmonized Tariff Schedule of the United States (HTSUS) at subheading 2931.90.9043. It may also enter under HTSUS subheadings 2811.19.6090, 2931.90.9041, 2931.90.9051, 2811.19.6190, and 2931.39.0018.⁵ While HTSUS subheadings and the CAS registry number are provided for convenience and customs purposes only, the written description of the scope of the Orders is dispositive.

⁵ On September 24, 2020, U.S. Customs and Border Protection (CBP) notified Commerce of additional HTSUS subheadings under which subject merchandise can be entered. Accordingly, the scope of the Orders now reflects those additional HTSUS subheadings. See AD Sunset Final, 87 FR at 42706; and CVD Sunset Final, 87 FR at 42707.

Continuation of the Orders

As a result of the determinations by Commerce and the ITC that revocation of the Orders would likely lead to a continuation or a recurrence of dumping and countervailable subsidies, as well as material injury to an industry in the United States, pursuant to section 751(d)(2) of the Act, Commerce hereby orders the continuation of the Orders. CBP will continue to collect AD and CVD cash deposits at the rates in effect at the time of entry for all imports of subject merchandise.

The effective date of the continuation of the Orders will be the date of publication in the Federal Register of this notice of continuation. Pursuant to section 751(c)(2) of the Act, Commerce intends to initiate the next five-year reviews of the Orders not later than 30 days prior to the fifth anniversary of the effective date of continuation.

Administrative Protective Order

This notice serves as the only reminder to parties subject to an administrative protective order (APO) of their responsibility concerning the disposition of proprietary information disclosed under APO in accordance with 19 CFR 351.305(a)(3), which continues to govern business proprietary information in this segment of the proceeding. Timely notification of return/destruction of APO materials or conversion to judicial protective order is hereby requested. Failure to comply with the regulations and terms of the APO is a sanctionable violation.

Notification to Interested Parties

These five-year sunset reviews and this notice are in accordance with section 751(c) of the Act and published in accordance with section 777(i)(1) of the Act and 19 CFR 351.218(f)(4).

Dated: November 25, 2022.
Abdelali Elouaradia,
Deputy Assistant Secretary for Enforcement and Compliance.

[FR Doc. 2022-26160 Filed 11-30-22; 8:45 am]

BILLING CODE 3510-DS-P